DEPARTMENT OF HOMELAND SECURITY

Federal Emergency Management Agency

44 CFR Part 65

[Docket No. FEMA-B-7719]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Cochise | City of Sierra Vista (06-09-BA33P) | April 12, 2007; April 19, 2007; Sierra Vista Herald | The Honorable Bob Strain, Mayor, City of Sierra Vista City Hall, 1011 North Coronado Drive, Sierra Vista, AZ 85635 | March 30, 2007 | 040017
Coconino | City of Williams (07-09-0666P) | April 12, 2007; April 19, 2007; Arizona Daily Sun | The Honorable Kenneth Edes, Mayor, City of Williams, 113 South First Street, Williams, AZ 86046 | March 29, 2007 | 040027
Arkansas:
Baxter | City of Mountain Home (07-06-0816P) | April 19, 2007; April 26, 2007; The Baxter Bulletin | The Honorable David Osmon, Mayor, City of Mountain Home, 720 South Hickory Street, Mountain Home, AR 72653 | July 26, 2007 | 050531
Craighead | City of Jonesboro (07-06-0264P) | April 27, 2007; May 4, 2007; Jonesboro Sun | The Honorable Doug Formon, Mayor, City of Jonesboro, 515 West Washington, Jonesboro, AR 72401 | April 30, 2007 | 050048
California:
Placer | City of Roseville 06-09-BA39P) | April 11, 2007; April 18, 2007; Roseville Press-Tribune | The Honorable Jim Gray, Mayor, City of Roseville, 311 Vernon Street, Suite 208, Roseville, CA 95678 | July 18, 2007 | 060243
Placer | Unincorporated areas of Placer County (06-09-BA39P) | April 11, 2007; April 18, 2007; Roseville Press-Tribune | The Honorable Bruce Kranz, Chairman, Placer County, Board of Supervisors, 175 Fulweiler Avenue, Auburn, CA 95603 | July 18, 2007 | 060239
Sacramento | Unincorporated areas of Sacramento County (07-09-0205P) | April 19, 2007; April 26, 2007; The Daily Recorder | The Honorable Don Nottoli, Chairman, Board of Supervisors Sacramento County, 700 H Street, Suite 2450, Sacramento, CA 95814 | July 26, 2007 | 060262
Colorado:
Adams | City of Aurora (07-08-0252P) | April 20, 2007; April 27, 2007; Eastern Colorado News | The Honorable Ed Tauer, Mayor, City of Aurora, 15151 East Alameda Parkway, Aurora, CO 80012 | July 27, 2007 | 080002
Adams | Unincorporated areas of Adams County (07-08-0252P) | April 20, 2007; April 27, 2007; Eastern Colorado News | The Honorable Alice J. Nichol, Chairman, Adams County Board of Commissioners, 450 South Fourth Avenue, Brighton, CO 80601 | July 27, 2007 | 080001
Arapahoe | City of Englewood (06-08-B392P) | April 6, 2007; April 13, 2007; The Englewood Herald | The Honorable Olga Wolosyn, Mayor, City of Englewood, 1000 Englewood Parkway, Englewood, CO 80110-2373 | July 13, 2007 | 085074
Araphaoe | City of Littleton (06-08-B392P) | April 6, 2007; April 13, 2007; The Englewood Herald | The Honorable Jim Taylor, Mayor, City of Littleton, 2255 West Barry Avenue, Littleton, CO 80165 | July 13, 2007 | 080017
El Paso | City of Colorado Springs (06-08-A647P) | December 27, 2006; January 3, 2007 El Paso County Advertiser and News | The Honorable Lionel Rivera Mayor, City of Colorado Springs, P.O. Box 1575, Colorado Springs, CO 80901 | April 4, 2007 | 080060
El Paso | City of Colorado Springs (05-08-0368P) | February 14, 2007; February 21, 2007; El Paso County Advertiser and News | The Honorable Lionel Rivera Mayor, City of Colorado Springs, P.O. Box 1575, Colorado Springs, CO 80901 | May 23, 2007 | 080060
El Paso | Unincorporated areas of El Paso County (05-08-0368P) | February 14, 2007; February 21, 2007; El Paso County Advertiser and News | The Honorable Sallie Clark Chair, El Paso County Board of Commissioners, 27 East Vermijo Avenue, Colorado Springs, CO 80903 | May 23, 2007 | 080059
Georgia:
Forsyth | Unincorporated areas of Forsyth County (06-04-C359P) | March 21, 2007; March 28, 2007; Forsyth County News | The Honorable Jack Conway, Chairman, Forsyth County Board of Commissioners, 110 East Main Street, Cumming, GA 30040 | June 27, 2007 | 130312
Gwinnett | Unincorporated areas of Gwinnett County (06-04-B747P) | April 19, 2007; April 26, 2007; Gwinnett Daily Post | The Honorable Charles Bannister, Chairman, Gwinnett County Board of Commissioners, 75 Langley Drive, Lawrenceville, GA 30045 | July 26, 2007 | 130322
Indiana: Allen | City of New Haven (07-05-1901P) | April 19, 2007; April 26, 2007; Journal Gazette | The Honorable Terry E. McDonald, Mayor, City of New Haven, 815 Lincoln Highway East, New Haven, IN 46774 | July 26, 2007 | 180004
Illinois:
Cook | Village of Matteson (06-05-B267P) | April 12, 2007; April 19, 2007; Daily Herald | The Honorable Mark W. Stricker, Village President, Village of Matteson, 4900 Village Commons, Matteson, IL 60443 | July 19, 2007 | 170123
Du Page | Village of Lisle (07-05-1672P) | April 27, 2007; May 4, 2007; Lisle Sun | The Honorable Joseph Broda Mayor, Village of Lisle, 925 Burlington Avenue, Lisle, IL 60532 | March 30, 2007 | 170211
McHenry | Village of Hebron (07-05-0618P) | April 19, 2007; April 26, 2007; The Northwest Herald | The Honorable Frank Beatty President, Village of Hebron, P.O. Box 372 Hebron, IL 60034 | July 26, 2007 | 170086
McHenry | Unincorporated areas of McHenry County (07-05-0618P) | April 19, 2007; April 26, 2007; The Northwest Herald. | The Honorable Kenneth D. Koehler, County Board Chairman, McHenry County, 2200 North Seminary Avenue, Woodstock, IL 60098 | July 26, 2007 | 170732
Kansas:
Sedgwick | City of Wichita (07-07-0461P) | April 19, 2007; April 26, 2007; The Wichita Eagle | The Honorable Carlos Mayans, Mayor, City of Wichita, City Hall, First Floor, 455 North Main, Wichita, KS 67202 | March 30, 2007 | 200328
Sedgwick | Unincorporated areas of Sedgwick County (07-07-0461P) | April 19, 2007; April 26, 2007; The Wichita Eagle | The Honorable Dave Unruh, Chairman, Sedgwick County Board of Commissioners, 525 North Main, Suite 320, Wichita, KS 67203 | March 30, 2007 | 200321
Louisiana: Livingston | Unincorporated areas of Livingston Parish (06-06-BJ93P) | April 5, 2007; April 12, 2007; The Livingston Parish News | The Honorable Mike Grimmer, President, Livingston Parish, P.O. Box 427, Livingston, LA 70754 | July 12, 2007 | 220113
Maine:
Cumberland | Town of Harpswell (07-01-0567P) | April 12, 2007; April 19, 2007; Portland Press Herald | The Honorable Samuel W. Alexander Chair, Board of Selectmen, Town of Harpswell, P.O. Box 39, Harpswell, ME 04079 | April 2, 2007 | 230169
Knox | Town of Rockport (07-01-0131P) | April 19, 2007; April 26, 2007; The Courier Gazette | The Honorable Robert H. Nichols, Chairman, Board of Selectmen, Town of Rockport, P.O. Box 10, Rockport, ME 04856 | April 2, 2007 | 230077
Massachusetts: Norfolk | Town of Westwood (07-01-0169P) | April 19, 2007; April 26, 2007; Westwood Press | The Honorable Anthony Antonellis, Chairman, Board of Selectmen, Town of Westwood, 580 High Street, Westwood, MA 02090 | March 30, 2007 | 255225
Michigan: Oakland | City of Troy (06-05-BZ47P) | April 13, 2007; April 20, 2007; Oakland County Legal News | The Honorable Louise E. Schilling, Mayor, City of Troy, 500 West Big Beaver Road, Troy, MI 48084 | April 19, 2007 | 260180
Minnesota: Hennepin | City of Golden Valley (06-05-BK37P) | April 18, 2007; April 25, 2007; Star Tribune | The Honorable Linda Loomis, Mayor, City of Golden Valley, 6677 Olson Memorial Highway, Golden Valley, MN 55427 | July 25, 2007 | 270162
Nebraska: Lancaster | Village of Firth (06-07-B874P) | March 26, 2007; April 3, 2007; Lincoln Journal Star | The Honorable David Hobelman, Chairman, Village of Firth Board, P.O. Box 38, Firth, NE 68358 | August 2, 2007 | 310135
North Dakota: Grand Forks | City of Grand Forks (07-08-0331P) | April 26, 2007; May 3, 2007; Grand Forks Herald | The Honorable Michael R. Brown, Mayor, City of Grand Forks, P.O. Box 5200, Grand Forks, ND 58206 | August 2, 2007 | 85365
Ohio:
Franklin | City of Columbus (06-05-B004P) | April 12, 2007; April 19, 2007; The Columbus Dispatch | The Honorable Michael B. Coleman Mayor, City of Columbus, City Hall, 2nd Floor, 90 West Broad Street, Columbus, OH 43215 | March 26, 2007 | 390170
Franklin | Unincorporated areas of Franklin County (06-05-B004P) | April 12, 2007; April 19, 2007; The Columbus Dispatch | Mr. Don L. Brown, Franklin County Administrator, 373 South High Street, 26th Floor, Columbus, OH 43215-6314 | March 26, 2007 | 390167
Warren | Unincorporated areas of Warren County (07-05-0021P) | April 12, 2007; April 19, 2007; The Pulse-Journal | The Honorable C. Michael Kilburn, President, Warren County, Board of Commissioners, 406 Justice Drive, Lebanon, OH 45036 | July 19, 2007 | 390757
Oklahoma:
Oklahoma | City of Midwest City (06-06-BI13P) | April 18, 2007; April 25, 2007; The Sun | The Honorable Russell Smith Mayor, City of Midwest City, 100 North Midwest Boulevard, Midwest City, OK 73110 | April 30, 2007 | 400405
Pottawatomie | Citizen Potawatomi Nation (06-06-B458P) | April 26, 2007; May 3, 2007; The Shawnee News-Star | The Honorable John A. Barrett Chairman, Citizen Potawatomi Nation, 1601 South Gordon Cooper Drive, Shawnee, OK 74801 | April 6, 2007 | 400553
Pottawatomie | City of Shawnee (06-06-B458P) | April 26, 2007; May 3, 2007; The Shawnee News-Star | The Honorable Pierre Taron, Mayor, City of Shawnee, P.O. Box 1448, Shawnee, OK 74802 | April 6, 2007 | 400178
Pottawatomie | Unincorporated areas of Pottawatomie County (06-06-B458P) | April 26, 2007; May 3, 2007; The Shawnee News-Star | Mr. Bob Guinn, Pottawatomie County Commissioner, 14101 Acme Road, County Courthouse, Shawnee, OK 74804 | April 6, 2007 | 400496
Tulsa | City of Broken Arrow (05-06-0076P) | April 19, 2007; April 26, 2007; Tulsa World | The Honorable Richard Carter, Mayor, City of Broken Arrow, 220 South First Street, Broken Arrow, OK 74012 | July 26, 2007 | 400236
Pennsylvania:
Chester | Borough of South Coatesville (07-03-0540P) | April 19, 2007; April 26, 2007; The Daily Local | The Honorable Gregory V. Hines, Council President, Borough of South Coatesville, 136 Modena Road, South Coatesville, PA 19320 | March 30, 2007 | 420288
Montgomery | Township of East Norriton (07-03-0101P) | April 12, 2007; April 19, 2007; The Times Herald | The Honorable Donald J. Gracia, Chairman, Board of Supervisors, East Norriton Township, 2501 Stanbridge Street, East Norriton, PA 19401 | March 23, 2007 | 420950
Puerto Rico: Puerto Rico | Commonwealth of Puerto Rico (06-02-B737P) | April 5, 2007; April 12, 2007; The San Juan Star | The Honorable Anibal Acevedo-Vila, Governor of the Commonwealth of Puerto Rico, P.O. Box 82, La Fortaleza, San Juan, PR 00901 | July 12, 2007 | 720000
South Carolina:
Jasper | City of Hardeeville (06-04-C661P) | April 19, 2007; April 26, 2007; The Beaufort Gazette | The Honorable Rodney Cannon, Mayor, City of Hardeeville, 205 East Main Street, Hardeeville, SC 29927 | July 26, 2007 | 450113
Richland | Unincorporated areas of Richland County (07-04-1972P) | April 27, 2007; May 4, 2007; The Columbia Star | The Honorable Joseph McEachern, Chairman, Richland County Council, Richland County Administration Building, 2020 Hampton Street, Second Floor, Columbia, SC 29202 | April 12, 2007 | 450170
Tennessee:
Rutherford | City of Murfreesboro (07-04-2511P) | April 19, 2007; April 26, 2007; Daily News Journal | The Honorable Tommy Bragg, Mayor, City of Murfreesboro, 111 West Vine Street, Murfreesboro, TN 37130 | July 26, 2007 | 470168
Rutherford | Unincorporated areas of Rutherford County (07-04-2511P) | April 19, 2007; April 26, 2007; Daily News Journal | The Honorable Ernest Burgess, Mayor, Rutherford County, County Courthouse, Room 101, Murfreesboro, TN 37130 | July 26, 2007 | 470165
Texas:
Collin | City of Plano (07-06-0426P) | April 12, 2007; April 19, 2007; Plano Star Courier | The Honorable Pat Evans, Mayor, City of Plano, 1520 Avenue K, Plano, TX 75074 | July 19, 2007 | 480140
Tarrant | City of Fort Worth (07-06-0368P) | April 12, 2007; April 19, 2007; Fort Worth Star-Telegram | The Honorable Mike J. Moncrief, Mayor, City of Fort Worth, 1000 Throckmorton Street, Fort Worth, TX 76102 | July 19, 2007 | 480596
Virginia: Independent City | City of Norton (06-03-B601P) | April 12, 2007; April 19, 2007; The Coalfield Progress | The Honorable B. Robert Raines, Mayor, City of Norton, Municipal Building, P. O. Box 618, Norton, VA 24273 | July 19, 2007 | 510108

Catalog of Federal Domestic Assistance No. 97.022, “Flood Insurance.”

Dated: June 18, 2007.
David I. Maurstad,
Federal Insurance Administrator of the National Flood Insurance Program, Federal Emergency Management Agency, Department of Homeland Security.

[FR Doc. E7-12693 Filed 6-29-07; 8:45 am]

BILLING CODE 9110-12-P